DEPARTMENT OF ENERGY

Federal Energy Regulatory Commission

[Docket No. EL02-111-000]

Midwest Independent System Operator, PJM Interconnection, L.L.C., et al.; Notice of Initiation of Proceeding and Refund Effective Date

September 4, 2002.

Take notice that on July 31, 2002, the Commission issued an order in the above-indicated docket initiating a proceeding in Docket No. EL02-111-000 under section 206 of the Federal Power Act.

The refund effective date in Docket No. EL02-111-000 will be 60 days after publication of this notice in the Federal Register.

Magalie R. Salas,
Secretary.

[FR Doc. 02-29247 Filed 11-18-02; 8:45 am]

BILLING CODE 6717-01-P